DEPARTMENT OF STATE

[Public Notice 4716]

Bureau of Educational and Cultural Affairs Request for Grant Proposals: Turkish Student Teacher Internship Project

SUMMARY: The Office of Global Educational Programs of the Bureau of Educational and Cultural Affairs announces an open competition for the Turkish Student Teacher Internship Project. Public and private non-profit organizations meeting the provisions described in Internal Revenue Code section 26 U.S.C. 501(c)(3) may submit proposals to administer an eight-week teacher training program for graduate students of education from Turkey. The focus of the program is to familiarize participants with U.S. student-centered teaching methods and the use of technology in the classroom. The exchange experience should also give Turkish participants an in-depth experience in American life and culture and contribute to mutual understanding between Turkey and the United States. The program should include both a theoretical component, provided through professional development seminars in an academic setting, and a practical component, provided through practice teaching experience under the guidance of experienced mentor teachers. Interested organizations should indicate strong contacts with local school districts in order to provide the practical student-teaching component, as well as a demonstrated ability to conduct a substantive academic program. Host schools for teacher-training internships may be public, private, magnet or charter schools, and should exemplify best practices. The successful proposal will demonstrate the organization's experience in international educational exchange and internship programs, and an understanding of Turkish history, culture, religion and education.

Program Information: Overview: Participants will be twenty-six graduate students from Turkey enrolled in MA in Teacher Education or MA in Teaching English as a Foreign Language programs, innovative degree programs which train high school level teachers of all subjects in student-centered teaching methods. Participants will be drawn from Bilkent University or similar institutions in Turkey. Students will have completed one year of MA-level academic work before beginning the program in the U.S. The twenty-six English-speaking student teachers will be selected by the Commission for Educational Exchange between the U.S.A. and Turkey (Fulbright Commission) in coordination with the U.S. Embassy in Turkey. The group will demonstrate diversity in geography (drawn from various regions of Turkey), gender, and socio-economic level. Following their program, the students will return to their home institutions for approximately seven more months of academic study before starting careers as high school teachers in Turkey.

In the long-term, this program is expected to assist Turkish educators as they prepare students to live in an increasingly interdependent world, and to provide these teachers with an in-depth exchange experience in the United States. It is intended that this experience will provide also a basis for continuing contact with the U.S. with a view to promoting mutual understanding between our countries and cultures.

Guidelines: The eight-week program should provide participants with thorough exposure to student-centered teaching approaches and the use of technology in American schools and a substantive cultural/educational exchange experience in the United States. After the participants have been selected, but prior to their departure for the U.S., the grantee institution will conduct a planning visit to Turkey to consult with representatives from the Fulbright Commission, U.S. Embassy, local educators, and representatives of the sending institutions. During this visit and in coordination with the above representatives, the grantee institution will also conduct a three-day pre-departure orientation workshop for the participants.

The orientation should provide information about the program, the program's goals, and expectations of participants. It should also offer a framework for integrating the training and its objectives into participants' previous training, and promote strategies for them to share their knowledge with professional counterparts and their own students. At the orientation, organizers should seek input from the participants about the needs of local teachers, review comparative teaching practices, and address issues about participants' stay in the U.S.

Upon their arrival in the United States, the participants should receive follow-up orientation that includes a basic introduction to American life and customs, and how these differ from practices in their home country. They should also receive academic training on teaching methodology and procedures. Teachers should then be placed in small groups at local schools, paired with experienced U.S. teachers whose academic specialization matches their own. Internship activities should include: observing a variety of teaching methods (inquiry, active classroom, group projects, etc.) as well as computer-based lessons; working individually with a mentor teacher on curriculum development; and team teaching. While the greatest emphasis is placed on immersing student teachers actively in the American classroom environment, the participants should also participate in development seminars on related topics in a university academic setting. The internship and seminars will also help participants to create a curriculum development project or portfolio to use upon their return to Turkey.

Components of U.S. program:

• Cross-cultural orientation (2-4 days): Introduction to U.S. government as it relates to education, U.S. education system, American culture through site visits and a cross-cultural adjustment seminar;

• Site visits in school districts (2-3 days): To all levels and types of schools, including economically and ethnically diverse schools;

• Internships in high schools (6 weeks): Each student teacher will work with a U.S. mentor teacher individually or with one other student teacher; activities include classroom observation, team teaching, and cultural presentations;

• Exposure to local school governance: through such activities as attendance at faculty, board of education, and PTA meetings;

• Professional development seminars planned and conducted in an academic setting to complement school-based training: topics may include classroom management, conflict resolution, diversity, and curriculum development. Seminars may be spread throughout the six weeks or take the form of a mid-program conference/debriefing;

• Final debriefing (1-2 days): Student teachers will share what they have observed and learned, perhaps through presentations they make to each other within the group;

• Curriculum development project: By the end of the eight-week program, the student teachers should complete a project incorporating a new teaching method or technology that they will put into practice when they begin teaching. Students should be able to use this project to brief fellow students at seminars held at their home universities, and so share the knowledge they have gained during their exchange experience with a wider group of MA candidates in Turkey.

• Cultural experiences: The project should provide opportunities for participants to interact with the local community through home stays and non-school-based groups, take part in activities reflecting the diversity of American society, to speak to Americans about Turkish history and culture.

• Final debriefing in Washington, DC: This portion of the program will allow Bureau staff to discuss the program in detail with the participants and get input on how to improve such programs in the future. A cultural program will also be part of the Washington visit.

Grantee's responsibilities:

• Plan and implement the exchange program in all aspects, including both the academic and practical component.

• Locate school districts to host groups for internships through informal competition (schools must submit a brief proposal outlining their interest, understanding of goals, examples of best practices, and commitment to mentoring). School districts should be within the driving distance from the administering organization, and should expose participants to more than one educational system or approach. Schools should designate an experienced mentor teacher to oversee the day-to-day activities of the participants;

• Conduct orientations in Turkey (pre-departure) and U.S., professional development seminars and debriefing;

• Monitor and evaluate the program;

• Administer all participant logistics: International transportation, ground transportation to local schools and training sites, participant per diem and housing, U.S. government forms—visas, tax, social security, etc.

• Arrange for home stays for at least some portion of the exchange visit, perhaps through local schools or other participating organizations; if home stays are not available for the entire period, arrange other cost-efficient housing; home stay hosts, as well as schools, should be sensitive to accommodating participants' religious observance;

• Administer all financial aspects of the program and comply with reporting requirements;

• Arrange a visit to Washington, DC, at the end of the group's U.S. program, to include meetings with Bureau representatives, a cultural program, and a school site visit if possible;

• Plan follow-on activities with host schools and participants in conjunction with participants' academic program.

The Commission for Educational Exchange between the U.S.A. and Turkey will assist in obtaining international airline tickets; the grantee will pay the airline office in Ankara for the air tickets, in coordination with the Fulbright Commission there. The purchase of tickets must be in compliance with the Fly America Act. The grantee will prepare visa documents and enroll the student teachers in a health insurance policy. The Fulbright Commission and the sending universities will assist in the pre-departure orientation and will conduct a post-program evaluation. The grantee will coordinate with the Fulbright Commission on all non-U.S. based aspects of program administration. The proposal should address mechanisms for communication and coordination.

The grantee will coordinate with the Teacher Exchange Branch in the Bureau of Educational and Cultural Affairs regarding all U.S.-based activities, reporting and evaluation. It will be important for the grantee to help create a network for participants to communicate and support each other in using the new methodologies after they have completed their academic program in Turkey and become teachers. A strong proposal will address follow-on activities in conjunction with the Fulbright Commission and the sending university or universities (without Bureau funding) to increase future impact and participant support.

The grant will begin on or about September 1, 2004, and the grantee should complete all exchange activities by December 2005. The internship program will take place in March-April 2005 or October-November 2005. Please refer to additional program specific guidelines in the Project Objectives, Goals, and Implementation (POGI) document.

Programs must comply with J-1 visa regulations. Please refer to Solicitation Package for further information.

Budget Guidelines: The Bureau anticipates awarding one grant, in an amount up to $200,000 to support program and administrative costs. Bureau grant guidelines require that organizations with less than four years experience in conducting international exchanges be limited to $60,000 in Bureau funding. Therefore, organizations with less than four years experience in conducting international exchanges are ineligible to apply under this competition. The Bureau encourages applicants to provide maximum levels of cost sharing and funding in support of its programs. Applicants must submit a comprehensive budget for the entire program. There must be a summary budget as well as breakdowns reflecting both administrative and program budgets. Applicants may provide separate sub-budgets for each program component, phase, location, or activity to provide clarification. Cost-sharing is encouraged.

Allowable costs for the program include the following:

1. International Travel

2. U.S. Ground Transportation

3. Host Schools (administrative costs)

4. Professional Development Seminars/Conference and Debriefing (instruction, materials, logistics)

5. Participant lodging and per diem

6. Cultural Activities

7. Book Allowance/Shipping

8. Grantee Administrative Costs

Please refer to the Solicitation Package for complete budget guidelines and formatting instructions.

Announcement Title and Number: All correspondence with the Bureau concerning this RFGP should reference the above title and number ECA/A/S/X-04-04.

FOR FURTHER INFORMATION CONTACT: The Teacher Exchange Branch of the Office of Global Educational Programs, ECA/A/S/X, Room 349, U.S. Department of State, 301 4th Street, SW., Washington, DC 20547, telephone: 202-619-4569, fax: 202-401-1433, e-mail: kubanmm@state.gov, to request a Solicitation Package. The Solicitation Package contains detailed award criteria, required application forms, specific budget instructions, and standard guidelines for proposal preparation. Please specify Bureau Program Officer Michael Kuban on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

New OMB Requirement: An OMB policy directive published in the Federal Register on Friday, June 27, 2003, requires that all organizations applying for Federal grants or cooperative agreements must provide a Dun and Bradstreet (D&B) Data Universal Numbering System (DUNS) number when applying for all Federal grants or cooperative agreements on or after October 1, 2003. The complete OMB policy directive can be referenced at http://www.whitehouse.gov/omb/fedreg/062703_grant_identifier.pdf. Please also visit the ECA Web site at http://exchanges.state.gov/education/rfgps/menu.htm for additional information on how to comply with this new directive.

Shipment and Deadline for Proposals: Important Note: The deadline for this competition is Friday, June 18, 2004. In light of recent events and heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package. The original and seven copies of the application should be sent to: U.S. Department of State, SA-44, Bureau of Educational and Cultural Affairs, Ref.: ECA/A/S/X-04-04, Program Management, ECA/EX/PM, Room 534, 301 4th Street, SW., Washington, DC 20547.

Applicants must also submit the “Executive Summary” and “Proposal Narrative” sections of the proposal in text (.txt) format on a PC-formatted disk. The Bureau will provide these files electronically to the Public Affairs Section at the U.S. embassy for its review.

Diversity, Freedom and Democracy Guidelines: Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Pub. L. 106-113 requires that the governments of the countries described above do not have inappropriate influence in the selection process. Proposals should reflect advancement of these goals in their program contents, to the full extent deemed feasible.

Adherence To All Regulations Governing the J Visa: The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, FAX: (202) 401-9809.

Review Process: The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria: Technically eligible applications will be competitively reviewed according to the criteria stated below. These criteria are not rank ordered and all carry equal weight in the proposal evaluation:

1. Quality of the program idea: Proposals should exhibit originality, substance, precision, and relevance to the Bureau's mission.

2. Program planning and ability to achieve program objectives: Detailed agenda and relevant work plan should demonstrate substantive undertakings and logistical capacity. Agenda and plan should adhere to the program overview and guidelines described above. Objectives should be reasonable, feasible, and flexible. Proposals should clearly demonstrate how the institution will meet the program's objectives and plan.

3. Impact/Follow-on activities: Proposed programs should strengthen long-term mutual understanding, including maximum sharing of information and establishment of long-term institutional and individual linkages. Proposals should provide a plan for continued follow-on activity (without Bureau support) ensuring that Bureau supported programs are not isolated events.

4. Support of Diversity: Proposals should demonstrate substantive support of the Bureau's policy on diversity. Achievable and relevant features should be cited in both program administration (selection of participants, program venue and program evaluation) and program content (orientation and wrap-up sessions, program meetings, resource materials and follow-up activities).

5. Institutional Record and Capacity: Proposed personnel and institutional resources should be adequate and appropriate to achieve the program or project's goals. Proposals should demonstrate an institutional record of successful exchange programs, including responsible fiscal management and full compliance with all reporting requirements for past Bureau grants as determined by Bureau Grant Staff. The Bureau will consider the past performance of prior recipients and the demonstrated potential of new applicants.

6. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

7. Cost-effectiveness/cost-sharing: The overhead and administrative components of the proposal, including salaries and honoraria, should be kept as low as possible. All other items should be necessary and appropriate. Proposals should maximize cost-sharing through other private sector support as well as institutional direct funding contributions.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice: The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification: Final awards cannot be made until funds have been appropriated by Congress, allocated and committed through internal Bureau procedures.

Dated: May 6, 2004.
C. Miller Crouch,
Principal Deputy Assistant Secretary, Bureau of Educational and Cultural Affairs, Department of State.

[FR Doc. 04-10887 Filed 5-12-04; 8:45 am]

BILLING CODE 4710-05-P